DEPARTMENT OF COMMERCE

National Oceanic and Atmospheric Administration

[RTID: 0648-XB931]

Research Track Assessment for Eastern Georges Bank and Georges Bank Haddock

AGENCY: National Marine Fisheries Service (NMFS), National Oceanic and Atmospheric Administration (NOAA), Commerce.

ACTION: Notice of public meeting.

SUMMARY: NMFS will convene the Research Track Assessment Peer Review Meeting for the purpose of reviewing Eastern Georges Bank (EGB) and Georges Bank (GB) haddock stocks. The Research Track Assessment Peer Review is a formal scientific peer-review process for evaluating and presenting stock assessment results to managers for fish stocks in the offshore U.S. and Canadian waters of the northwest Atlantic. Assessments are prepared by the research track working group and reviewed by an independent panel of stock assessment experts from the Center of Independent Experts (CIE). The public is invited to attend the presentations and discussions between the review panel and the scientists who have participated in the stock assessment process.

DATES: The public portion of the Research Track Assessment Peer Review Meeting will be held from March 28, 2022-March 31, 2022. The meeting will conclude on March 31, 2022 at 5:30 p.m. Eastern Standard Time. Please see SUPPLEMENTARY INFORMATION for the daily meeting agenda.

ADDRESSES: The meeting will be held via WebEx.

Link: https://noaanmfs-meets.webex.com/noaanmfs-meets/j.php?MTID=mfadfc0e507ed052d63c95340b3a9d9d4.

Meeting number (access code): 2764 775 0084.

Meeting password: D9Zm8ZBMbZ8.

FOR FURTHER INFORMATION, CONTACT: Michele Traver, phone: 508-257-1642; email: michele.traver@noaa.gov.

SUPPLEMENTARY INFORMATION: For further information, please visit the Northeast Fisheries Science Center (NEFSC) website at https://www.fisheries.noaa.gov/new-england-mid-atlantic/population-assessments/fishery-stock-assessments-new-england-and-mid-atlantic. For additional information about research track assessment peer review, please visit the NEFSC web page at https://www.fisheries.noaa.gov/new-england-mid-atlantic/population-assessments/research-track-stock-assessments.

Daily Meeting Agenda—Research Track Peer Review Meeting

The agenda is subject to change; all times are approximate and may be changed at the discretion of the Peer Review Chair.

Time | Topic | Presenter(s) | Notes
Monday, March 28, 2022
11 a.m.-11:15 a.m | Welcome/Logistics Introductions/Agenda/Conduct of Meeting | Michele Traver, Assessment Process Lead Russ Brown, PopDy Branch Chief Richard Merrick and Rob Kronlund, Panel Co-Chairs
11:15 a.m.-12:45 p.m | Term of Reference (TOR) #2 | Liz Brooks, Monica Finley | GB Catch data (US/Can), EGB Catch data (US/Can).
12:45 p.m.-1:15 p.m | Discussion/Summary | Review Panel
1:15 p.m.-1:45 p.m | Break
1:45 p.m.-3:45 p.m | TOR #3 | Liz Brooks, Monica Finley | GB Surveys, EGB Surveys.
3:45 p.m.-4 p.m | Break
4 p.m.-4:30 p.m | Discussion/Summary | Review Panel.
4:30 p.m.-4:45 p.m | Public Comment | Public
4:45 p.m | Adjourn
Tuesday, March 29, 2022
11 a.m.-11:05 a.m | Welcome/Logistics | Michele Traver, Assessment Process Lead Richard Merrick and Rob Kronlund, Panel Co-Chairs
11:05 a.m.-1 p.m | TORs #1 and #9 | Kevin Friedland, Yanjun Wang, Liz Brooks | Ecosystem and Recruitment Processes.
1 p.m.-1:30 p.m | Discussion/Summary | Review Panel
1:30 p.m.-2 p.m | Break
2 p.m.-4 p.m | TORs #10 and #12 | Yanjun Wang, Steve Cadrin | Density-Dependent Growth and Stock Structure.
4 p.m.-4:15 p.m | Break
4:15 p.m.-4:45 p.m | Discussion/Summary | Review Panel
4:45 p.m.-5 p.m | Public Comment | Public
5 p.m | Adjourn
Wednesday, March 30, 2022
11 a.m.-11:05 a.m | Welcome/Logistics | Michele Traver, Assessment Process Lead Richard Merrick and Rob Kronlund, Panel Co-Chairs
11:05 a.m.-1 p.m | TOR #4 | Liz Brooks, Tom Carruthers | Mortality, Recruitment and Biomass Estimates. GB Models. EGB Models.
1 p.m.-1:30 p.m | Break
1:30 p.m.-4 p.m | TOR #4 cont | Liz Brooks, Tom Carruthers | Mortality, Recruitment and Biomass Estimates. GB Models. EGB Models.
4 p.m.-4:15 p.m | Break
4:15 p.m.-4:30 p.m | Discussion/Summary | Review Panel
4:30 p.m.-4:45 p.m | Public Comment | Public
4:45 p.m | Adjourn
Thursday, March 31, 2022
11 a.m.-11:05 a.m | Welcome/Logistics | Michele Traver, Assessment Process Lead Richard Merrick and Rob Kronlund, Panel Co-Chairs
11:05 a.m.-1 p.m | TORs #5, #11 and #6 | Liz Brooks, Tom Carruthers | BRPs. EGB Reference. Points Projections.
1 p.m.-1:30 p.m | Break
1:30 p.m.-3:30 p.m | TORs #8 and #7 | Liz Brooks, Tom Carruthers, Brian Linton | Alternative Assessment Approach. Research Recommendations.
3:30 p.m.-4 p.m | Discussion/Summary | Review Panel
4 p.m.-4:15 p.m | Public Comment | Public
4:15 p.m.-4:30 p.m | Break
4:30 p.m.-5:30 p.m | Panel Wrap-up and Report Discussion | Review Panel
5:30 p.m | Adjourn.

The meeting is open to the public; however, during the `Report Discussion' session on Thursday, March 31st, the public should not engage in discussion with the Peer Review Panel.

Special Accommodations

This meeting is physically accessible to people with disabilities. Special requests should be directed to Michele Traver, via email.

Dated: March 31, 2022.
Ngagne Jafnar Gueye,
Acting Director, Office of Sustainable Fisheries, National Marine Fisheries Service.

[FR Doc. 2022-07229 Filed 4-5-22; 8:45 am]

BILLING CODE 3510-22-P